DEPARTMENT OF HEALTH AND HUMAN SERVICES

National Institutes of Health

Center for Scientific Review; Amended Notice of Meeting

Notice is hereby given of a change in the meeting of the Center for Scientific Review Special Emphasis Panel, Small Business: Biomedical Sensing, Measurement and Instrumentation, March 19, 2020, 08:00 a.m. to March 20, 2020, 05:00 p.m., Bahia Resort Hotel, 998 West Mission Bay Drive, San Diego, CA 92109, which was published in the Federal Register on February 20, 2020, 85 FR 9791.

The meeting location is being held at the National Institutes of Health, 6701 Rockledge Drive, Bethesda, MD 20892. The meeting date and time remains the same. The meeting is closed to the public.

Dated: March 11, 2020.
Miguelina Perez,
Program Analyst, Office of Federal Advisory Committee Policy.

[FR Doc. 2020-05402 Filed 3-16-20; 8:45 am]

BILLING CODE 4140-01-P